DEPARTMENT OF HEALTH AND HUMAN SERVICES

Centers for Medicare & Medicaid Services

[CMS-1375-N]

Medicare Program; Request for Nominations to the Advisory Panel on Ambulatory Payment Classifications Groups

AGENCY: Centers for Medicare & Medicaid Services (CMS), HHS.

ACTION: Notice.

SUMMARY: This notice invites nominations of members to the Advisory Panel on Ambulatory Payment Classification (APC) Groups (the Panel). There will be four vacancies on the Panel as of March 31, 2004. The purpose of the Panel is to review the APC groups and their associated weights and to advise the Secretary of Health and Human Services (the Secretary) and the Administrator of the Centers for Medicare & Medicaid Services (CMS) concerning the clinical integrity of these groups and weights, which are major elements of the hospital outpatient prospective payment system. The Panel is chartered through November 21, 2004.

Nominations

Nominations will be considered if received at the appropriate address, which is provided below, no later than 5 p.m. e.s.t. February 13, 2004. Mail or deliver nominations to the following address: CMS, Center for Medicare Management, Hospital & Ambulatory Policy Group, Division of Outpatient Care, Attention: Shirl Ackerman Ross, Designated Federal Official (FACA), Advisory Panel on APC Groups, 7500 Security Boulevard, Mail Stop C4-05-17, Baltimore, MD 21244-1850.

FOR FURTHER INFORMATION CONTACT: Persons wishing to nominate individuals to serve on the Panel or to obtain further information can also contact the Panel coordinator, Shirl Ackerman-Ross by e-mail at SAckermanross@cms.hhs.gov or by telephone at (410) 786-4474.

For additional information and updates on the Panel's activities, please refer to the Internet at http://www.cms.gov/faca.

You may also refer to the CMS Advisory Committee Information Hotlines at 1-877-449-5659 (toll-free) or 410-786-9379(local) for additional information.

News media representatives should contact the CMS Press Office, (202) 690-6145.

SUPPLEMENTARY INFORMATION:

I. Background

The Secretary of the Department of Health and Human Services (the Secretary) is required by section 1833(t)(9)(A) of the Social Security Act (the Act) to consult with an advisory panel on Ambulatory Payment Classification (APC) Groups (the Panel). The Panel will meet up to three times annually to review the APC groups and to provide technical advice to the Secretary and to the Administrator of the Centers for Medicare & Medicaid Services (CMS) concerning the clinical integrity of the groups and their associated weights. The groups and their weights are major elements of the hospital Outpatient Prospective Payment System (OPPS). We will consider the technical advice provided by the Panel as we prepare the annual Notice of Proposed Rulemaking that will propose changes to the OPPS for the next calendar year.

The current members of the Panel are: Marilyn Bedell, M.S., R.N., O.C.N.; Geneva Craig, R.N., M.A.; Lora DeWald, M.Ed.; Albert Brooks Einstein, Jr., M.D.; Robert E. Henkin, M.D.; Lee H. Hilborne, M.D., M.P.H.; Stephen T. House, M.D.; Kathleen Kinslow, C.R.N.A., Ed.D.; Mike Metro, R.N., B.S.; Gerald V. Naccarelli, M.D.; Frank G. Opelka, M.D., F.A.C.S.; Beverly K. Philip, M.D.; Lynn R. Tomascik, R.N., M.S.N.; Timothy Gene Tyler, Pharm.D.; and William Van Decker, M.D. The Panel Chair position, which must be a CMS Federal official, is vacant.

The Charter allows for up to 15 members plus a Chair, and we will have four openings as of March 31, 2004. Therefore, we are requesting nominations for members to serve on the Panel. Panel members serve without compensation, pursuant to advance written agreement; however, travel, meals, lodging, and related expenses will be reimbursed in accordance with standard Government travel regulations. We have a special interest for ensuring that women, minorities, and the physically challenged are adequately represented on the Panel, and we encourage nominations of qualified candidates from those groups.

The Secretary, or his designee, will appoint new members to the Panel from among those candidates determined to have the required expertise; new appointments will be done in a manner that will ensure an appropriate balance of membership.

II. Criteria for Nominees

Qualified nominees will meet those requirements necessary to be a Panel member. Panel members must be full-time employees and representatives of Medicare providers subject to the OPPS, with technical and/or clinical expertise in any of the following areas:

• Hospital payment systems.

• Hospital medical care delivery systems.

• Outpatient payment requirements.

• Ambulatory payment classification groups.

• Use of, and payment for, drugs and medical devices in an outpatient setting.

• Provision of, and payment for, partial hospitalization services.

• Any other relevant expertise.

It is not necessary that any nominee possess expertise in all of the areas listed, but each must have a minimum of 5 years experience and currently be employed full-time in his or her area of expertise. (Please Note: Consultants do not qualify for Panel membership under the nominee criteria.)

Members of the Panel serve overlapping 4-year terms, contingent upon the rechartering of the Panel on or before November 21, 2004.

Any interested person may nominate one or more qualified individuals. Self-nominations will also be accepted. Each nomination must include a letter of nomination, a curriculum vita of the nominee, and a statement from the nominee that the nominee is willing to serve on the Panel under the conditions described in this notice and further specified in the Charter.

III. Copies of the Charter

You may obtain a copy of the charter for the Panel by submitting a request to: Shirl Ackerman-Ross, CMS, Center for Medicare Management, Hospital & Ambulatory Policy Group, Division of Outpatient Care, 7500 Security Boulevard, Mail Stop C4-05-17, Baltimore, MD 21244, by telephone at (410) 786-4474 or by e-mail to SAckermanross@cms.hhs.gov. A copy of the charter is also available on the Internet at http://www.cms.hhs.gov/faca.

Authority: Section 1833(t)(9)(A) of the Social Security Act (42 U.S.C. 13951(t)(9)(A)) and Pub. L. 92-463 (5 U.S.C. App. 2).

Dated: January 16, 2004.
Dennis G. Smith,
Acting Administrator, Centers for Medicare & Medicaid Services.

[FR Doc. 04-1516 Filed 1-22-04; 8:45 am]

BILLING CODE 4120-01-P